DEPARTMENT OF THE INTERIOR

Bureau of Indian Affairs

Notice of Intent To Prepare an Environmental Impact Statement for the Proposed Extension of the Absaloka Coal Mine on the Crow Indian Reservation, Big Horn County, MT

AGENCY: Bureau of Indian Affairs, Interior.

ACTION: Notice.

SUMMARY: This notice advises the public that the Bureau of Indian Affairs (BIA) and the Montana Department of Environmental Quality (MDEQ) as joint Lead Agencies, with the Crow Tribe of Indians, the Office of Surface Mining Reclamation and Enforcement (OSMRE), the Environmental Protection Agency (EPA), and the Bureau of Land Management (BLM), as Cooperating Agencies, intend to gather information necessary for preparing an Environmental Impact Statement (EIS) for the proposed Extension of the Absaloka Coal Mine on the Crow Indian Reservation, Montana. The proposed BIA action, taken under the Indian Mineral Development Act, is the approval of a coal lease by the Crow Tribe to Westmoreland Resources Inc. (WRI) and associated approval of allotted Indian and Crow tribal surface estate use agreements. In addition, the OSMRE will use this EIS to support a decision on the application for a surface mining permit to be filed by WRI involving the same acreage, commonly known as the Absaloka Mine “South Extension;” the MDEQ will use it in considering approval of permit revisions to facilitate mining of coal adjacent to the South Extension that is presently under the Absaloka Mine, which MDEQ administers; and the EPA may use the EIS in considering issuance of National Pollutant Discharge Elimination System permits for any point source water discharges on the Reservation. The purpose of this project is to extend the operating life of the Absaloka Mine and continue to provide an economic base for the Crow Tribe, while providing an energy source for the generation of electricity at distant power plants. This notice also announces a public scoping meeting to identify potential issues and alternatives to be considered in the EIS.

DATES: Written comments concerning the scope and implementation of the proposed action must arrive by December 26, 2006. The public scoping meeting will be held Thursday, December 14, 2006, from 7 p.m. to 9 p.m., or until all those who wish to make statements have been heard.

ADDRESSES: You may mail, hand carry or telefax written comments to either (1) Rick Stefanic, Supervisory Environmental Specialist, Bureau of Indian Affairs, Rocky Mountain Regional Office, 316 N. 26th St., Billings, Montana 59101, telefax (406) 247-7976; or (2) Edward Lone Fight, Superintendent, Crow Agency, P.O. Box 69, Crow Agency, Montana 59022, telefax (406) 638-2380.

The public scoping meeting will be held in room 301 of the Big Horn County Courthouse, 121 W. 3rd Street, Hardin, Montana.

FOR FURTHER INFORMATION CONTACT: Rick Stefanic (BIA), (406) 247-7911; or Greg Halsten (MDEQ), (406) 444-3276.

SUPPLEMENTARY INFORMATION: Absaloka Mine is a surface coal mine located at Sarpy Creek in Big Horn County, Montana, about 32 miles east northeast of Hardin, Montana. This location is in the Crow Ceded Area north of and adjacent to the Crow Indian Reservation, on what is known as the Tract 3 Coal Lease. The mine is owned by WRI, an 80 percent subsidiary of Westmoreland Coal Company. The 20 percent minority owner is Washington Group International, which is also the mining contractor. The coal is held in trust by the United States for the Crow Tribe, which receives substantial income on royalties and taxes on production at the mine. A majority of mine employees are Crow tribal members. Mining operations began in 1974 and have continued to the present. The current production rate is 6 to 7 million tons per year.

All mining infrastructure is in place. No new roads (other than haul roads), railroads, load out facilities, administration facilities or power sources will be constructed. There would not, therefore, be any foreseeable additional impacts from infrastructure development. All mining and related disturbance to date has been within the Tract III coal lease area and associated State of Montana section (Section 36, T. 1N, R. 37E.), hence has been within the scope of the original FES 76-64 (see reference below).

Remaining mineable and marketable coal reserves on Tract III are limited, so without additional reserves, the mine would be forced to close by 2011 at the latest. In 2004, WRI entered into an Exploration and Option to Lease Agreement with the Crow Tribe for a coal reserve area encompassing approximately 3,100 acres on the Crow Indian Reservation south of and adjacent to the Tract 3 Coal Lease. The mineral estate of the subject acreage is owned entirely by the Crow Tribe. The surface estate is owned by non-Indian fee owners (57%), allotted Indian owners (35%), and the Crow Tribe (8%). Exploration drilling programs were conducted in 2004 and 2005, and tonnage and quality of coal have been confirmed. The results of this exploration indicate sufficient mineable reserves of coal in the Rosebud and McKay seams are present to extend the mine life for an additional 9 to 10 years until approximately 2021. Based on these findings, WRI exercised its lease option in June 2006, and expects to file a mine permit application with the OSMRE in late 2006. Approximately 1,600 acres would be mined on the Reservation, along with an additional 375 acres on adjacent areas on Tract III.

Because the Absaloka Mine has operated for 32 years, impacts of past and current operations are well documented through the leasing and permitting processes, associated environmental documents and monitoring studies. Documents that have been prepared in conjunction with coal leasing and permit decisions at Absaloka Mine include the following:

• USDI BIA FES 76-64; Crow Ceded Area Coal Lease Tracts II and III Westmoreland Resources, December 15, 1976.

• USDI U.S. Geological Survey FES 77-17; Proposed 20-year Plan of Mining and Reclamation, Westmoreland Resources Tract III, Crow Ceded Area, Montana; May 31, 1977.

• USDI OSM-EIS-16; Westmoreland Resources; Absaloka Mine Revised Plan, December, 1984.

• MDEQ EA; Continued Mining and Relocation of Big Horn County Road No. 55, January 31, 1994.

• MDEQ EA; Vella Redding Life Estate Amendment, October 18, 2005.

• MDEQ EA; Application No. 00170 Tract 3 South Extension, June 16, 2006.

It is the intent of the BIA that this EIS will rely to the extent possible on earlier documents for background information, and focus on issues and impacts specific to the proposed mine extension. Although Absaloka Mine has been the subject of these National Environmental Policy Act and Montana Environmental Policy Act documents, an EIS rather than an Environmental Assessment is warranted for BIA approval of the lease and related actions for the following reasons:

• The Crow Reservation South Extension area lies outside of the area addressed in earlier federal and state actions, therefore has not been analyzed in an earlier environmental document covering the specific lease or mining activity.

• The projected area to be mined is approximately 1,600 acres, which exceeds the threshold of 1,280 acres considered to constitute a major action.

• The projected annual production rate is 6 to 7 million tons, which exceeds the threshold of 5 million tons considered to be a major action.

In addition to the foregoing, the following significant changes in circumstances relevant to analysis of environmental and socio-economic impacts have occurred since 1976:

• The projected production rate of 15 million tons per year from Tract III has not materialized due to market limitations. The highest annual production realized was just over 7 million tons in 1999. The current and projected production rate is 6 to 7 million tons annually.

• Tract II was not developed due to market limitations, and was relinquished to the Crow Tribe in 1981.

• The Crow Tribe successfully challenged application by the State of Montana of its severance and gross proceeds taxes to production of Indian coal, and as a consequence, equivalent production taxes are now paid to the Crow Tribe.

• The Surface Mining Control and Reclamation Act of 1977 (SMCRA) established uniform national standards for reclamation and environmental protection from the adverse effects of surface coal mining.

• Although regulation of surface coal mining on Tract III is regulated jointly by MDEQ and OSM under the terms of a Memorandum of Understanding, 30 CFR part 750 establishes OSM as the regulatory authority on the Crow Indian Reservation where the south extension will take place.

• More rigorous standards for identification and protection of cultural resources were established under 30 CFR part 800 in 1986.

Environmental baseline studies including geology, hydrology, soils, vegetation, wildlife, cultural resources and air quality are either complete or well underway. These resources, and subcomponents thereof, will be addressed in the EIS, as well as, but not limited to, socio-economics, aesthetics, noise, paleontology, and environmental justice.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council on Environmental Quality regulations (40 CFR parts 1500 through 1508) implementing the procedural requirements of the National Environmental Policy Act of 1969, as amended (42 U.S.C. 4321 et seq.), the Department of the Interior Manual (516 DM 1-6), and is in the exercise of authority delegated to the Principal Deputy Assistant Secretary—Indian Affairs by 209 DM 8.

Dated: November 3, 2006.
Michael D. Olsen,
Principal Deputy Assistant Secretary—Indian Affairs.

[FR Doc. E6-20152 Filed 11-27-06; 8:45 am]

BILLING CODE 4310-W7-P